FEDERAL COMMUNICATIONS COMMISSION

47 CFR Part 73

[DA 01-417, MM Docket No. 01-53, RM-10040]

Television Broadcast Service; Galesburg, IL

AGENCY: Federal Communications Commission.

ACTION: Proposed rule.

SUMMARY: The Commission requests comments on a petition filed by Northwest Television, Inc., an applicant for a construction permit for a new TV station on channel 67 at Galesburg, Illinois, requesting the substitution of channel 53 for channel 67 at Galesburg. TV Channel 53 can be allotted to Galesburg, Illinois, in compliance with the of section 73.623(d) of the Commission's Rules with a zero offset at reference coordinates (41-18-45 W. and 90-22-45 N.). We will not accept competing expressions of interest in the use of television channel 53 at Galesburg pursuant to the provisions outlined in the Commission's Public Notice, released November 22, 1999, DA 99-2605.

DATES: Comments must be filed on or before April 16, 2001, and reply comments on or before May 1, 2001.

ADDRESSES: Federal Communications Commission, 445 12th Street, SW., Room TW-A325, Washington, DC 20554. In addition to filing comments with the FCC, interested parties should serve the petitioner, or its counsel or consultant, as follows: George R. Borsari, Jr., Anne Thomas Paxson, Borsari & Paxson, 2021 L Street, NW., Suite 402, Washington, DC 20036 (Counsel for Northwest Television, Inc.).

FOR FURTHER INFORMATION CONTACT: Pam Blumenthal, Mass Media Bureau, (202) 418-1600.

SUPPLEMENTARY INFORMATION: This is a synopsis of the Commission's Notice of Proposed Rule Making, MM Docket No. 01-53, adopted February 20, 2001, and released February 21, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.606(b), the Table of Television Allotments under Illinois is amended by removing TV Channel 67 and adding TV Channel 53 at Galesburg.

Federal Communications Commission.
Barbara A. Kreisman,
Chief, Video Services Division, Mass Media Bureau.

[FR Doc. 01-4912 Filed 2-28-01; 8:45 am]

BILLING CODE 6712-01-U